DEPARTMENT OF STATE

[Public Notice 5808]

U.S. Department of State Advisory Committee on Private International Law: Working Group I of the United Nations Commission on International Trade Law (UNCITRAL) Model Law on Procurement of Goods, Construction and Services

Summary: The Advisory Committee's study group is participating in an initiative by the United National Commission for International Trade Law (UNCITRAL) to revise the 1994 UNCITRAL Model Law on Procurement of Goods, Construction and Services (“Model Procurement Law”), and its Guide to Enactment, available at http://www.uncitral.org/uncitral/en/uncitral_texts/procurement_infrastructure/1994Model.html. The UNCITRAL Model Procurement Law is not binding on the United States, but it is cited and relied upon in many other nations as a model procurement code.

The reform effort regarding the Model Procurement Law is being undertaken by UNCITRAL's Working Group I, which has been meeting twice annually, in Vienna and New York, to develop new language for the UNCITRAL Model Procurement Law and the Guide to Enactment. The working papers that reflect this effort are gathered at the UNCITRAL Web site, at http://www.uncitral.org/uncitral/en/commission/working_groups/1Procurement.html.

As part of its broader effort to reform the UNCITRAL Model Procurement Law to reflect advances in electronic procurement, the UNCITRAL working group has made substantial progress in developing new provisions in the model law. At its May 2007 meeting in New York, the UNCITRAL working group addressed proposed provisions that would: (a) Set standards for the use of electronic communications in procurement under the UNCITRAL Model Procurement Law; (b) Describe when, and how, electronic reverse auctions might be used under the model law; and (c) Define rules for the use of indefinite-delivery, indefinite-quantity (“IDIQ”) contracts, generally referred to as “frameworks agreements” in the European Union and under the proposed changes to the Model Procurement Law.

The provisions under consideration by the working group are described in, inter alia, working paper A/CN.9/WG.I/WP.51 (Mar. 13, 2007), available at the previously referenced Web site. A report on the May 2007 meeting is to be published by the UNCITRAL Secretariat at the same Web site.

The Advisory Committee's study group will be holding a public meeting to review and discuss the proposed reforms to the UNCITRAL Model Procurement Law at The George Washington University Law School Faculty Conference Center, 5th Floor 2000 H Street, NW., Washington, DC on June 27, 2007 from 1 p.m. EST to 3 p.m. EST. Written comments need to be submitted by June 22, 2007 to the Office of Private International Law, U.S. Department of State, 2430 E Street, NW., Washington, DC 20037-2851, attn: Michael Dennis, or by facsimile to 202-776-8482, or by electronic mail to DennisMJ@State.gov. Any persons wishing to reserve an opportunity to comment at the public meeting should note so in a submission to the address above or should call Trisha Smeltzer at 202-776-8423.

Dated: June 4, 2007.
Michael J. Dennis,
Attorney-Advisory, Office of the Legal Advisor, Office of Private International Law, Department of State.

[FR Doc. E7-11596 Filed 6-14-07; 8:45 am]

BILLING CODE 4710-08-P